DEPARTMENT OF COMMERCE

Foreign-Trade Zones Board

[S-94-2014]

Approval of Subzone Status; LEEVAC Shipyards, LLC; Jennings, Louisiana

On July 16, 2014, the Executive Secretary of the Foreign-Trade Zones (FTZ) Board docketed an application submitted by the Lake Charles Harbor & Terminal District, grantee of FTZ 87, requesting subzone status subject to the existing activation limit of FTZ 87 on behalf of LEEVAC Shipyards, LLC, in Jennings, Louisiana.

The application was processed in accordance with the FTZ Act and Regulations, including notice in the Federal Register inviting public comment (79 FR 42501, 7-22-2014). The FTZ staff examiner reviewed the application and determined that it meets the criteria for approval.

Pursuant to the authority delegated to the FTZ Board's Executive Secretary (15 CFR 400.36(f)), the application to establish Subzone 87D is approved, subject to the FTZ Act and the Board's regulations, including Section 400.13, and further subject to FTZ 87's 2,000-acre activation limit.

Dated: September 15, 2014.
Elizabeth Whiteman,
Acting Executive Secretary.

[FR Doc. 2014-22422 Filed 9-18-14; 8:45 am]

BILLING CODE 3510-DS-P